DEPARTMENT OF COMMERCE

National Oceanic and Atmospheric Administration

RIN 0648-XA366

Pacific Fishery Management Council; Public Meeting

AGENCY: National Marine Fisheries Service (NMFS), National Oceanic and Atmospheric Administration (NOAA), Commerce.

ACTION: Notice of a public meeting.

SUMMARY: The Pacific Fishery Management Council (Pacific Council) will convene a Pacific mackerel Stock Assessment Review (STAR) Panel meeting that is open to the public.

DATES: The meeting will be held Monday, May 2, 2011 through Thursday, May 5, 2011. Business will begin each day at 8:30 a.m. the first day, and at 8 a.m. each subsequent day. The meeting will conclude each day at 5 p.m. or until business for the day is completed. The meeting may conclude before 5 p.m. on Thursday if business has been completed.

ADDRESSES: The meeting will be held in the Green Room of the National Marine Fisheries Service's Southwest Fisheries Science Center; 8604 La Jolla Shores Drive, La Jolla, CA 92037.

FOR FURTHER INFORMATION CONTACT: Kerry Griffin, Staff Officer; telephone: (503) 820-2280.

SUPPLEMENTARY INFORMATION: The primary purpose of the meeting is to review the Pacific mackerel stock assessment for 2011, in order to inform fisheries management decisions for the 2011-12 fishery. Other issues relevant to Pacific mackerel management and science may be addressed as time permits.

Although non-emergency issues not contained in the meeting agenda may come before the STAR Panel for discussion, those issues may not be the subject of formal action during this meeting. STAR Panel action will be restricted to those issues specifically listed in this notice and any issues arising after publication of this notice that require emergency action under Section 305(c) of the Magnuson-Stevens Fishery Conservation and Management Act, provided the public has been notified of the STAR Panel's intent to take final action to address the emergency.

Special Accommodations

This meeting is physically accessible to people with disabilities. Requests for sign language interpretation or other auxiliary aids should be directed to Ms. Carolyn Porter at (503) 820-2280 at least 5 days prior to the meeting date.

Dated: April 11, 2011.
Tracey L. Thompson,
Acting Director, Office of Sustainable Fisheries, National Marine Fisheries Service.

[FR Doc. 2011-9056 Filed 4-13-11; 8:45 am]

BILLING CODE 3510-22-P